FEDERAL COMMUNICATIONS COMMISSION

47 CFR Part 73

[MB Docket No. 05-263; RM-11269; DA 14-458]

Radio Broadcasting Services; Grants and Church Rock, New Mexico

AGENCY: Federal Communications Commission.

ACTION: Final rule; dismissal of petition for partial reconsideration.

SUMMARY: This document dismisses the Petition for Partial Reconsideration filed by Reynolds Technical Associates in response to the “Request to Dismiss.” Reynolds Technical Associates states that it is no longer interested in pursuing the Petition for Partial Reconsideration, and it certifies that there is no agreement and no consideration received or promised in exchange for such withdrawal.

DATES: Effective May 13, 2014.

ADDRESSES: Federal Communications Commission, 445 12th Street SW., Washington, DC. 20554.

FOR FURTHER INFORMATION CONTACT: Rolanda F. Smith, Media Bureau, (202) 418-2700.

SUPPLEMENTARY INFORMATION: This is a summary of the Commission's Memorandum Opinion and Order, MB Docket No. 05-263, adopted April 3, 2014, and released April 4, 2014. The full text of this Commission decision is available for inspection and copying during normal business hours in the Commission's Reference Center 445 12th Street SW., Washington, DC 20554. The complete text of this decision may also be purchased from the Commission's duplicating contractor, Best Copy and Printing, Inc., 445 12th Street SW., Room CY-B402, Washington, DC 20554, telephone 1-800-378-3160 or www.BCPIWEB.com. This document is not subject to the Congressional Review Act. (The Commission is, therefore, not required to submit a copy of this Memorandum Opinion and Order to the General Accounting Office pursuant to the Congressional Review Act, see 5 U.S.C. 801(a)(1)(A), because the Petition for Partial Reconsideration was dismissed.

Federal Communications Commission.
Peter H. Doyle,
Chief, Audio Division, Media Bureau.

[FR Doc. 2014-10260 Filed 5-12-14; 8:45 am]

BILLING CODE 6712-01-P